DEPARTMENT OF DEFENSE

Office of the Secretary

The Joint Staff; National Defense University, Board of Visitors Meeting

AGENCY: National Defense University, DoD.

ACTION: Notice of meeting.

SUMMARY: The President, National Defense University has scheduled a meeting of the Board of Visitors (BOV). Board Hearings are open to the public.

DATES: The meeting will be held on March 18 and 19, 2004, from 11 a.m. to 5 p.m. on the 18th and continuing on the 19th from 8:30 a.m. to 1:30 p.m.

ADDRESSES: The meeting will be held in Room 155B, Okinawa Hall, building number, Joint Forces Staff College (JFSC), 7800 Hampton Boulevard, Norfolk, VA 23511-1702.

FOR FURTHER INFORMATION CONTACT: National Defense University (NDU) Deputy Chief of Staff, National Defense University, Fort Lesley J. McNair, Washington, DC 20319-6200. To reserve space, interested parties should contact the JFSC POC Mr. Steven Williams, at (757) 443-6212.

SUPPLEMENTARY INFORMATION: The agenda will include discussions on Defense transformation, faculty development, facilities and information technology, curriculum development, post 9/11 initiatives as well as other operational issues and areas of interest affecting the day-to-day operations of the National Defense University and its components. The meeting is open to the public; limited space made available for observers will be allocated on a first come, first served basis.

POC: Michael Mann, BOV Executive Secretary, mannm@ndu.edu, (202) 685-3903.

Dated: January 23, 2004.
Patricia L. Toppings,
Alternate OSD Federal Register Liaison Officer, Department of Defense.

[FR Doc. 04-2034 Filed 1-30-04; 8:45 am]

BILLING CODE 5001-06-M